DEPARTMENT OF JUSTICE

Antitrust Division

Notice Pursuant to the National Cooperative Research and Production Act of 1993—VSI Alliance

Notice is hereby given that, on October 9, 2002, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, Adelante Technologies, Leuven, Belgium; HCL Technologies, Ltd., Chennai, India; Palmchip Corporation, San Jose, CA; Alfred Kwok (individual member), San Jose, CA; Hardy Pottinger (individual member), Rolla, MO; and Kumar Venkatramani (individual member), Saratoga, CA have been added as parties to this venture.

Also, Artisan Components, Inc., Sunnyvale, CA; D. K. Arvind (individual member), Edinburgh, Scotland, United Kingdom; Atmos Corporation, Toronto, Ontario, Canada, Mark Buckner (individual member), Oak Ridge, TN; Jean-Paul Calvez (individual member), Nantes, France; Circuit Semantics, Inc., San Jose, CA; Ellipsis Digital Systems, Inc., Carlsbad, CA; Frontier Design, Leuven, Belgium; Dr. Peter Green (individual member), Manchester, England, United Kingdom; Ken Hodor (individual member), Sunnyvale, CA; Jennie Ltd., South Yorkshire, England, United Kingdom; David Laone (individual member), San Jose, CA; Edward Lee (individual member), Berkeley CA; Tsung Lee (individual member), Kao-Hsiung, Taiwan; Malardalen University, Vasteras, Sweden; Nsine Limited, Reading, England, United Kingdom; Brahmaji Potu (individual member), Cupertino, CA; Wolfram Putzke-Roming (individual member), Oldenburg, Germany; Sandeep Shukla (individual member), Blacksburg, VA; Silicon Integration Initiative (SI2), Austin, TX; Sirius Communications NV, Rotselaar, Belgium; Sony Corporation, Tokyo, Japan; Teleraty Systems, Inc., Sunnyvale, CA; University of Kitakyushu (Dept. of Information), Fukuoka-ken, Japan; Vulcan Machines Limited, Royston, England, United Kingdom; Xi'an Swip Co., Ltd., Shaangxi, People's Republic of China; and Xylon, Zagreb, Croatia have been dropped as parties to this venture.

No other changes have been made in either the membership of planned activity of the group research project. Membership in this group research project remains open, and VSI Alliance intends to file additional written notification disclosing all changes in membership.

On November 29, 1996, VSI Alliance filed its original notification pursuant to section 6(a) of this Act. The Department of Justice published a notice in the Federal Register pursuant to section 6(b) of the Act of March 4, 1997 (62 FR 9812).

The last notification was filed with the Department on July 12, 2002. A notice was published in the Federal Register pursuant to section 6(b) of the Act on August 13, 2002 (67 FR 52746).

Constance K. Robinson,
Director of Operations, Antitrust Division.

[FR Doc. 02-28421 Filed 11-7-02; 8:45 am]

BILLING CODE 4410-11-M